DEPARTMENT OF JUSTICE

Antitrust Division

Notice Pursuant to the National Cooperative Research and Production Act of 1993—Naval Surface Technology & Innovation Consortium

Notice is hereby given that, on October 17, 2022, pursuant to Section 6(a) of the National Cooperative Research and Production Act of 1993, 15 U.S.C. 4301 et seq. (“the Act”), Naval Surface Technology & Innovation Consortium (“NSTIC”) has filed written notifications simultaneously with the Attorney General and the Federal Trade Commission disclosing changes in its membership. The notifications were filed for the purpose of extending the Act's provisions limiting the recovery of antitrust plaintiffs to actual damages under specified circumstances. Specifically, Alirrium LLC, Reston, VA; Amentum Services, Inc., Germantown, MD; Armtec Countermeasures Company, Coachella, CA; ASEG, Inc., San Diego, CA; Board of Trustees of the University of Illinois, Urbana, IL; Breault Research Organization, Tucson, AZ; Communications & Power Industries LLC, Palo Alto, CA; dataCon, Inc., Chelmsford, MA; Fairlead Integrated LLC, Portsmouth, VA; Fathom5 Corporation, Austin, TX; Fiore Industries, Inc., Albuquerque, NM; Herdt Consulting, Inc., Chelsea, AL; Integrated Consultants Incorporated, El Cajon, CA; ITA International LLC, Newport News, VA; iWorks Corporation, Reston, VA; Northrop Grumman Systems Corporation, Corrinne, UT; Optical Engines, Inc., Colorado Springs, CO; Pacific Star Communications (dba PacStar), Portland, OR; RADA Technologies, LLC, Germantown, MD; Telesto Group LLC, West Palm Beach, FL; and The Durbin Group, LLC, Fredericksburg, VA, have been added as parties to this venture.

Also, Southwest Dynamic Systems LLC, Albuquerque, NM, has withdrawn as a party to this venture.

No other changes have been made in either the membership or planned activity of the group research project. Membership in this group research project remains open, and NSTIC intends to file additional written notifications disclosing all changes in membership.

On October 8, 2019, NSTIC filed its original notification pursuant to Section 6(a) of the Act. The Department of Justice published a notice in the Federal Register pursuant to Section 6(b) of the Act on November 12, 2019 (84 FR 61071).

The last notification was filed with the Department on June 23, 2022. A notice was published in the Federal Register pursuant to Section 6(b) of the Act on August 1, 2022 (87 FR 47006).

Suzanne Morris,
Deputy Director, Civil Enforcement Operations, Antitrust Division.

[FR Doc. 2022-25499 Filed 11-22-22; 8:45 am]

BILLING CODE P